DEPARTMENT OF THE INTERIOR

Fish and Wildlife Service

[FWS-R8-ES-2008-N0106; 1112-0000-81420-F2]

Habitat Conservation Plan for South Sacramento, Sacramento County, CA

AGENCY: Fish and Wildlife Service, Interior.

ACTION: Notice of intent to prepare an Environmental Impact Statement/Environmental Impact Report (EIS/EIR) and notice of public scoping meetings.

SUMMARY: Pursuant to the National Environmental Policy Act (NEPA) we, the Fish and Wildlife Service (Service), advise the public that we intend to gather information necessary to prepare, in coordination with the County of Sacramento (the County), a joint Environmental Impact Statement/Environmental Impact Report (EIS/EIR). The EIS/EIR will analyze the environmental effects of the Service's proposed issuance of an incidental take permit under section 10(a)(1)(B) of the Federal Endangered Species Act of 1973 as amended (ESA), for a habitat conservation plan (HCP) within a portion of south Sacramento County, California. The County, along with their local partners (the cities of Elk Grove, Rancho Cordova, Galt, the Sacramento Regional County Sanitation District, and the Sacramento County Water Agency), is facilitating the preparation of the South Sacramento HCP (SSHCP) in compliance with section 10(a)(2) of the ESA. The County and their local partners intend to apply to the Service for a 30-year permit that would authorized the incidental take of 40 species due to ground-disturbing private activities implemented under the SSHCP. The County, in accordance with the California Environmental Quality Act (CEQA) and with 40 CFR 1506.6(b)(3), has published a similar notice of preparation for this EIS/EIR with the State Clearinghouse.

We provide this notice to (1) Describe the proposed action and possible alternatives; (2) announce the initiation of a public scoping period, including when and where scoping meetings will be held; (3) advise other interested Federal, State, and local agencies, affected Tribes, and the public of our intent to prepare an EIS/EIR and invite their participation in the scoping process and; (4) obtain suggestions, comments, and useful information from interested parties and other agencies on the range of actions, the significant issues, range of alternatives, and impacts to be considered in the EIS/EIR document. We invite written comments on this notice from any interested party.

DATES: Submit written comments on or before July 30, 2008. Four public scoping meeting will be held on:

1. Tuesday, July 8, 2008, from 6:30 p.m. to 8:30 p.m., Galt, CA.

2. Friday, July 11, 2008, from 10 a.m. to 12:00 p.m., Sacramento, CA.

3. Tuesday, July 15, 2008, from 6:30 p.m. to 8:30 p.m., Rancho Cordova, CA.

4. Wednesday, July 16, 2008, from 6:30 p.m. to 8:30 p.m., Elk Grove, CA.

ADDRESSES: The public meetings will be held at the following locations:

1. Tuesday, July 8, 2008, at the Anthony Pescetti Community Room, Galt Police Facility, 455 Industrial Drive, Galt, CA 95632.

2. Friday, July 11, 2008, at the Sixth Floor Meeting Room, Sacramento County Administration Building, 700 H Street, Sacramento, CA 95814.

3. Tuesday, July 15, 2008, at the American River Room, Rancho Cordova City Hall, 2729 Prospect Park Drive, Rancho Cordova, CA 95670.

4. Wednesday, July 16, 2008, at the City Council Chambers, Elk Grove City Hall, 8400 Laguna Palms Way, Elk Grove, CA 95758.

Submit written comments to Nina Bicknese, Conservation Planning Branch, Sacramento Fish and Wildlife Office, Fish and Wildlife Service, 2800 Cottage Way, Room W-2605, Sacramento, CA 95825. Comments may also be sent by facsimile to (916) 414-6713.

FOR FURTHER INFORMATION CONTACT: Nina Bicknese, Senior Fish and Wildlife Biologist, Sacramento Fish and Wildlife Office at (916) 414-6600. Additional details of the County's proposed South Sacramento Habitat Conservation Plan are available at http://www.planning.saccounty.net/habitat-conservation/overview/html.

SUPPLEMENTARY INFORMATION:

Reasonable Accommodation

Persons needing reasonable accommodations in order to attend and participate in a public meeting should contact Nina Bicknese at (916) 414-6600 as soon as possible. In order to allow sufficient time to process requests, please call no later than one week before the public meeting. Information regarding this proposed action is available in alternative formats upon request.

Background

The County and their local partners anticipate that landowners and individuals will continue to request their discretionary or ministerial approval of ground-disturbing land development projects in portions of south Sacramento County where species listed as threatened or endangered under the ESA are present. The County and their local partners intend to apply for a permit from the Service for the incidental take of listed species resulting from their approval of otherwise lawful land-use changes within portions of south Sacramento County over the next 30 years. Pursuant to the ESA and federal regulations governing incidental take permits (ITPs), the County and their local partners are in the process of preparing a habitat conservation plan titled South Sacramento HCP (SSHCP). Development of the SSHCP involved a public process that has included open meetings of a stakeholder Steering Committee.

Section 9 of the ESA (16 U.S.C. 1538) and Federal regulations (50 CFR 17.21 and 17.31) prohibit the “take” of wildlife species listed as endangered or threatened. The term “take” means to harass, harm, pursue, hunt, shoot, wound, kill, trap, capture, or collect listed species, or to attempt to engage in such conduct (16 U.S.C. 1532). “Harm” in the definition of “take” includes significant habitat modifications or degradations (50 CFR 17.3). Pursuant to section 10(a)(1)(B) of the ESA, the Service may permit authorized take of species other wise prohibited by Section 9 of the ESA if such taking is incidental to, and not the purpose of, carrying out an otherwise lawful activity (16 U.S.C. 1539). Federal regulations governing ITPs for threatened and endangered wildlife species, respectively, are promulgated in 50 CFR 17.32 and 50 CFR 17.22 and in Section 10(a)(2) of the ESA. Pursuant to these regulations, no permit authorizing incidental take may be issued unless the applicant prepares a Habitat Conservation Plan (HCP). An HCP must include: a description of the activities sought to be authorized; the names of the species sought to be covered by the ITP; the impacts that will likely result from the proposed taking; steps the applicant will take to minimize and mitigate such taking to the maximum extent practicable; the funding that will be available to implement such steps; biological goals and objectives; a monitoring plan; an adaptive management plan; alternatives to the proposed taking the applicant considered and reasons why such alternatives are not proposed for implementation; other measures that may be necessary or appropriate for the purposes of the HCP; and the procedures the applicant will use to deal with unforeseen circumstances over the term of the ITP.

The SSHCP Planning Area—the area in which all impacts would be evaluated and all conservation actions will be implemented—is approximately 341,000-acres within south Sacramento County. The approximate geographical boundary of the SSHCP Planning Area is the area bound by U.S. Highway 50 in the north, the county line dividing Sacramento County with San Joaquin County on the south, the county line dividing Sacramento County with Amador and El Dorado counties in the east, and Interstate 5 on the west. The SSHCP's 341,000-acre Planning Area includes a 123,000-acre Urban Development Area (UDA) where most ground-disturbing development and infrastructure projects would be approved by the County and its local partners over the next 30 years. The 123,000-acre UDA includes lands within Sacramento County's Urban Service Boundary, lands within the city limits of Rancho Cordova, Elk Grove, and Galt, and lands within Galt's adopted sphere of influence area. The County and its partners propose that approximately 43,500 acres within the 123,000-acre UDA would be developed or otherwise disturbed, while approximately 8,000 acres of the UDA would be permanently preserved or restored. The County and its partners also propose that approximately 40,500 acres of the Planning Area outside the UDA would be permanently preserved or restored, and only approximately 2,000 acres of the Planning Area outside the UDA would be developed or otherwise disturbed.

The species proposed for coverage in the SSHCP are those that occur within the SSHCP Planning Area and are currently listed as federally threatened or endangered, or that may become federally listed during the term of the proposed permit. The County intends to request an ESA section 10(a)(1)(B) permit to authorize the incidental take of 40 species (7 federally listed and 33 unlisted). The proposed SSHCP would provide for the long-term conservation and management of these 40 covered-species and their habitats within the SSHCP Planning Area. Species may be added or deleted during the course of the SSHCP development based on public comment, new information, further analysis, and agency consultation. Listed animal species proposed to be covered under the SSHCP permit are the federally-endangered vernal pool tadpole shrimp (Lepidurus packardi), the federally-threatened California tiger salamander (Ambystoma californiense), the federally-threatened giant garter snake (Thamnophis gigas), the federally-threatened valley elderberry longhorn beetle (Desmocerus californicus dimorphus), and the federally-threatened vernal pool fairy shrimp (Branchinecta lynchi). Listed plant species proposed to be covered are the federally endangered Sacramento Orcutt grass (Orcuttia viscida) and the federally endangered slender Orcutt grass (Orcuttia tenuis).

The 33 unlisted species (27 animal and 6 plant species) proposed to be covered under the SSHCP permit are the mid-valley fairy shrimp (Branchinecta mesovallensis), Ricksecker's water scavenger beetle (Hydrochara rickseckeri), western pond turtle (2 sub-species) (Actinemys marmorata marmorata and Actinemys marmorata pallida), western spadefoot toad (Scaphiopus hammondii), the white-tailed kite (Elanus leucurus), Cooper's hawk (Accipiter cooperii), the ferruginous hawk (wintering) (Buteo regalis), golden eagle (Aquila chrysaetos), the state-threatened Swainson's hawk (Buteo swainsoni), bald eagle (Haliaeetus leucocephalus), loggerhead shrike (Lanius ludovicianus), northern harrier (nesting) (Circus cyaneus), sharp-shinned hawk (Accipiter striatus), the state-endangered American peregrine falcon (wintering) (Falco peregrinus anatum), tricolored blackbird (nesting) (Agelaius tricolor), western burrowing owl (Athene cunicularia hypugaea), long-eared owl (Asio otus), merlin (Falco columbarius), short-eared owl (Asio flammeus), white-faced ibis (Plegadis chihi), yellow breasted chat (Icteria virens) the state-threatened greater sandhill crane (Grus canadensis tabida), American badger (Taxidae taxus), pallid bat (Antrozous pallidus), ringtail (Bassariscus astutas), western red bat (Lasirus blossevilli),Yuma myotis bat (Myotis yumanensis), Ahart's dwarf rush (Juncus leiospermus var. ahartii), dwarf downingia (Downingia pusilla), legenere (Legenere limosa), pincushion navarretia (Navarretia myersii), Sanford's arrowhead (Sagittaria sanfordii) and the state-endangered Bogg's Lake hedge-hyssop (Gratiola heterosepala). Should any of these unlisted covered-species become listed under the ESA during the term of the permit, take authorization for those species would become effective upon listing. The County proposes to include 8 plant species (2 listed and 6 unlisted) in the SSHCP. The ESA does not prohibit the incidental take of federally listed plants on private lands unless the take is a violation of state law or regulation. We propose to include these plant species on the ITP in recognition of the conservation benefits that would be provided for these plant species under the SSHCP and to meet regulatory obligations under Section 7 of the ESA and the California Endangered Species Act (CESA). All wildlife and plant species included on the proposed ITP would receive assurances under the Service's “No Surprises” regulations found in 50 CFR 17.22(b)(5) and 17.32(b)(5).

The activities proposed for coverage in the SSHCP are wide-ranging, but are generally related to urban-suburban development on city and unincorporated lands. Proposed covered-activities presently include the construction, installation, extension, or removal of: (1) Private and commercial developments, (2) transportation facilities, (3) surface water and groundwater supply and delivery facilities, (4) water treatment facilities, (5) flood control facilities, (6) sanitation facilities (landfills, transfer stations, recycling stations), (7) public facilities (fire stations, police stations, hospitals, schools, community centers, cemeteries, and administration centers), (8) outdoor and indoor recreation facilities, (9) utility facilities, (10) aggregate mining activities, and (11) conservation activities (habitat restoration, creation, and enhancement; preserve management and monitoring). These covered activities are expected to impact 18 existing habitat and agricultural land-cover types within the 341,000-acre Planning Area. Approximately 43,500 acres of the existing natural habitat and agricultural land-cover in the Planning Area would be converted to a developed condition under the proposed SSHCP.

The proposed SSHCP Conservation Strategy would provide a regional approach for the conservation of the 40 covered-species and their 18 habitat types so as to aid recovery of the species and to minimize and mitigate impacts of the covered activities on the species and their habitats within the Planning Area. The 18 species habitat types include vernal pools and associated uplands, valley grasslands, other wetlands, woodlands, riparian habitats, and several agricultural land-cover types. The proposed SSHCP Conservation Strategy would protect a total of approximately 47,000 acres and restore or create a total of approximately 1,500 acres within the 341,000-acre Planning Area. The SSHCP Planning Area would be divided into a system of 12 conservation zones with an explicit amount of species habitat preservation directed to specific zones. The County and its partners anticipate that large landscape preserves and linkage corridors would be established outside of the UDA, and that these habitat preserves would be established within a matrix of open space and agricultural land uses. The proposed Conservation Strategy also includes approximately 8,000 acres of habitat preserves within the UDA, but these UDA habitat preserves would be much smaller and would eventually be surrounded by urban or suburban development. Components of the proposed SSHCP conservation program are now under consideration by the Service and the County. These components may include monitoring, adaptive management, species avoidance measures, and species mitigation measures including the preservation, restoration, and enhancement of suitable habitat. It is anticipated the SSHCP would be implemented through a section 10(a)(1)(B) incidental take permit and an Implementation Agreement.

Environmental Impact Statement/Report

The proposed EIS/EIR will consider (1) The proposed action (i.e. the Service issues an ITP for the SSHCP proposed by the County and its partners), (2) a no-action alternative (i.e. the Service does not issue an ITP and a SSHCP is not implemented) and, (3) reasonable alternatives to the proposed action (i.e. the Service considers alternative versions of the SSHCP, and then permits alternative). We anticipate that several alternatives will be developed for analysis in the EIS/EIR. These alternatives might vary by the number of covered species; the covered activities, different strategies for avoiding, minimizing, and mitigating the impacts of incidental take; the amount of land preserved or restored, the type of future conservation efforts; or a combination of these factors. A detailed description of all reasonable alternatives, including the proposed action, will be included in the EIS/EIR.

The EIS/EIR will analyze in depth all significant environmental issues identified through this scoping process. These issues may include biological resources, agricultural resources, land use, housing, hydrology and water resources, cultural resources, aesthetics, transportation and circulation, mineral resources, recreation, air quality, noise and vibration, or other components of the human environment that could be directly, indirectly, or cumulatively impacted by the proposed action or by the alternatives.

We anticipate that a draft EIS/EIR and the draft SSHCP will be available in late 2009 and will have a 60-day public review period. The environmental review of the EIS/EIR will be conducted in accordance with the requirements of NEPA (42 U.S.C. 4321 et seq.), its implementing regulations (40 CFR 1500-1508), other applicable regulations, and Service policy and guidance on compliance with those regulations. We expect to complete the final EIS/EIR in the middle of 2010 and to make the decision on issuing a section 10(a)(1)(B) permit for a SSHCP in late 2010.

The U.S. Army Corps of Engineers (Corps) will be a NEPA Cooperating Agency on the proposed EIS/EIR pursuant to 40 CFR 1501.6, 1506.3(c), and 1508.5. The County and their partners expect to apply to the Corps for a Programmatic General Permit (PGP) under Section 404 of the Clean Water Act (CWA). Section 404 of the CWA regulates and requires Corps authorizations for discharges of dredged or fill material into waters of the United States. A PGP is among the types of general permits which can be issued for any category of activities involving discharges of dredged or fill material if the Corps makes certain determinations (33 U.S.C. 1344(e)). Corps regulations promulgated under the CWA define dredged or fill material in detail at 33 CFR 323.2 and regulations concerning processing of Corps permits are at 33 CFR part 325. The Corps may use the EIS/EIR to inform their discretionary decision to issue to a PGP for certain components of the proposed SSHCP.

The California Department of Fish and Game (CDFG) will be a NEPA Cooperating Agency on the proposed EIS/EIR pursuant to 40 CFR 1501.6 and 1508.5. The County and their partners expect to apply to CDFG for an incidental take permit under Section 2081 of the California Fish and Game code and to apply for a Lake or Streambed Alteration Agreement under Section 1600 of the California Fish and Game code. CDFG intends to use the EIS/EIR in conducting its review of the SSHCP as a CEQA Trustee Agency. CDFG will also use the EIS/EIR in makings its CEQA findings in their decision to issue an incidental take permit under Section 2081 of the California Fish and Game Code. As a CEQA Responsible Agency, CDFG may also use the EIS/EIR during their consideration to approve a Lake or Streambed Alteration Agreement under Section 1600 of the California Fish and Game Code. The SSHCP will incorporate best management practices that have been developed in cooperation with, and approved by, CDFG.

This notice of intent is being furnished in accordance with 40 CFR Sections 1501.2, 1501.7, 1506.6, and 1508.22 to obtain suggestions, comments, and useful information from other agencies and the public on the scope of the proposed EIS/EIR, including the significant environmental issues deserving of study, the range of actions, the range of alternatives, and the range of impacts to be considered. Written comments from interested parties are invited to ensure that all issues related to the proposed section 10(a)(1)(B) incidental-take permit application are identified. Comments will only be accepted in written form. You may submit written comments by mail, facsimile transmission, or in person (see ADDRESSES). All comments received will become part of the official administrative record. Our practice is to make comment letters (including names, home addresses, home phone numbers and email addresses of respondents) available for public review. You may request that we withhold personal information, if so, please state this prominently at the beginning of your comments. However, we cannot guarantee that we will be able to do so.

Dated: June 4, 2008.
John Engbring,
Deputy Regional Director, California and Nevada Region, Sacramento, California.

[FR Doc. E8-12963 Filed 6-9-08; 8:45 am]

BILLING CODE 4310-55-P